DEPARTMENT OF TRANSPORTATION

Federal Aviation Administration

Noise Exposure Map Notice; Great Falls International Airport, Great Falls, MT

AGENCY: Federal Aviation Administration (FAA), DOT.

ACTION: Noise Exposure Map notice.

SUMMARY: The Federal Aviation Administration (FAA) announces its determination that the Noise Exposure Maps submitted by the Great Falls International Airport Authority for the Great Falls International Airport under the provisions of 40 U.S.C. 47501 et seq. (Aviation Safety and Noise Abatement Act) and 14 CFR 150 are in compliance with applicable requirements.

DATES: Effective Date: The effective date of the FAA's determination on the Noise Exposure Maps is January 27, 2016.

FOR FURTHER INFORMATION CONTACT: Mr. Scott Eaton at the Federal Aviation Administration, FAA Building, Ste. 2, 2725 Skyway Drive, Helena, Montana 59602-1213, Telephone 406-449-5291.

SUPPLEMENTARY INFORMATION: This Notice announces that the FAA finds that the Noise Exposure Maps submitted for Great Falls International Airport are in compliance with applicable requirements of Title 14 Code of Federal Regulations (CFR) Part 150, effective January 27, 2016. Under 49 U.S.C., Section 47503, Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested parties in the local community, government agencies, and persons using the airport. An airport operator who has submitted noise exposure maps that are found by FAA to be in compliance with the requirements of the U.S. Code of Federal Regulations (CFR) Part 150, promulgated pursuant to the Act, may submit a noise compatibility program for FAA approval which sets forth the measures the operator has taken or proposes to take to reduce existing non-compatible uses and prevent the introduction of additional non-compatible uses.

The FAA has completed its review of the Noise Exposure Maps and accompanying documentation submitted by the Great Falls International Airport Authority. The documentation that constitutes the “noise exposure maps” as defined in CFR part 150 Section 150.7 includes: Part 150 Noise Exposure Map Update Report, Figure 1 Existing (2015) Airport Layout and Land Use Base Map, Figure 2 Forecast (2020) Airport layout and Land Use Base Map, Figure 5 Runway 3/21 Modeled Arrival and Departure Flight Tracks, Figure 6 Runway 3/21 Modeled Flight Pattern Tracks, Figure 7 Runway 16/34 Modeled Arrival and Departure Flight Tracks, Figure 8 Runway 16/34 Modeled Flight Pattern Tracks, Figure 9 Runway 7/25 Modeled Arrival and Departure Flight Tracks, Figure 10 Runway 7/25 Modeled Flight Pattern, Figure 11 Helicopter Modeled Arrival and Departure Flight Tracks, Figure 12 Existing Condition (2015) Noise Exposure Map, Figure 13 Forecast Condition (2020) Noise Exposure Map, Appendix F Forecast of Aircraft Operations at GTF 2015 and 2020, Appendix J Non-Standard Modeling Profiles Request Letter, Appendix K FAA Approval of Non-Standard Modeling Profiles, and Appendix L Public Consultation. The FAA has determined that these noise exposure maps and accompanying documentation are in compliance with applicable requirements. This determination is effective on January 27, 2016.

The FAA's determination on an airport operator's noise exposure maps is limited to a finding that the maps were developed in accordance with the procedures contained in Appendix A of CFR part 150. Such determination does not constitute approval of the airport operator's data, information or plans, or a commitment to approve a Noise Compatibility Program or to fund implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under Part 150 or through FAA's review of Noise Exposure Maps. Therefore, the responsibility for the detailed overlaying of noise exposure contours onto the map depicting properties on the surface rests exclusively with the airport operator that submitted those maps, or those public agencies and planning agencies with which consultation is required under Section 47503 of the Act. The FAA has relied on the certification by the airport operator, under Section 150.21 of part 150, that the statutorily required consultation has been accomplished.

Copies of the full Noise Exposure Map documentation are available for examination at the following locations:

Federal Aviation Administration Authority, Helena Airports District Office, FAA Building, Ste. 2, 2725 Skyway Drive, Helena, MT 59602.

Great Falls International Airport, 2800 Terminal Drive, Great Falls, MT 59404.

Questions may be directed to the individual named above under the heading, FOR FURTHER INFORMATION CONTACT.

Issued in Renton, Washington, on January 27, 2016.
Randall Fiertz,
Manager, Airports Division, Northwest Mountain Region.

[FR Doc. 2016-02020 Filed 2-3-16; 8:45 am]

BILLING CODE P